DEPARTMENT OF JUSTICE

Notice of Lodging of Agreement and Order Regarding Modification of the Consent Decree Under the Clean Water Act

Notice is hereby given that on November 10, 2008, a proposed Agreement and Order Regarding Modification of the Consent Decree (“Agreement and Order”) in United States of America and State of Louisiana v. City of Baton Rouge and Parish of East Baton Rouge, Civil Action No 01-978-B-M3 was lodged with the United States District Court for the Middle District of Louisiana.

This action was originally filed in 2001 by the United States and the State of Louisiana under Clean Water Act (“CWA”) Section 301, 33 U.S.C. 1311, seeking civil penalties and injunctive relief for violations related to the publically owned treatment works owned and operated by the City of Baton Rouge and the Parish of East Baton Rouge (collectively “the City/Parish”). On March 14, 2001, the Court entered a Consent Decree resolving all claims in the Complaint (“the 2002 Consent Decree”). Among other requirements, the 2002 Consent Decree required the City/Parish to implement a 13-15 year project to improve its sewage collection system. Pursuant to these requirements, the City/Parish proposed a Second Remedial Measures Action Plan (“Second RMAP”) in which it selected a remedial measure for the collection system. Pursuant to Paragraph 40(a) of the 2002 Consent Decree, the Second RMAP was approved on July 10, 2007. If entered by the Court, the proposed Agreement and Order would modify the 2002 Consent Decree by amending the approved Second RMAP to allow the City/Parish to decommission the Central Wastewater Treatment plant located at 2443 River Road in East Baton Rouge Parish, Louisiana (“the Central Plant”) and the redirect the flows to the South Wastewater Treatment Plant located at 2850 Gardere Lane in East Baton Rouge Parish, Louisiana (the South Plant”).

The Department of Justice will receive for a period of thirty (30) days from the date of this publication comments relating to the Agreement and Order. Comments should be addressed to the Assistant Attorney General, Environment and Natural Resources Division, and either e-mailed to pubcomment-ees.enrd@usdoj.gov or mailed to P.O. Box 7611, U.S. Department of Justice, Washington, DC 20044-7611, and should refer to U.S. and La. v. City of Baton Rouge, D.J. Ref. 90-5-1-1-2769/1.

The Agreement and Order may be examined at the Office of the United States Attorney for the Middle District of Louisiana, 777 Florida St., Suite 208, Baton Rouge, Louisiana 70801, and at U.S. Environmental Protection Agency-Region 6, 1445 Ross Avenue, Dallas, Texas 75202. During the public comment period, the Agreement and Order, may also be examined on the following Department of Justice Web site: http://www.usdoj.gov/enrd/Consent_Decrees.html. A copy of the Agreement and Order may also be obtained by mail from the Consent Decree Library, P.O. Box 7611, U.S. Department of Justice, Washington, DC 20044-7611 or by faxing or e-mailing a request to Tonia Fleetwood (tonia.fleetwood@usdoj.gov), fax no. (202) 514-0097, phone confirmation number (202) 514-1547. In requesting a copy from the Consent Decree Library, please enclose a check in the amount of $9.00 (25 cents per page reproduction cost) payable to the U.S. Treasury or, if by email or fax, forward a check in that amount to the Consent Decree Library at the stated address.

Thomas A. Mariani, Jr.,
Assistant Chief, Environmental Enforcement Section, Environment and Natural Resources Division.

[FR Doc. E8-27216 Filed 11-14-08; 8:45 am]

BILLING CODE 4410-15-P